INTERNATIONAL TRADE COMMISSION

[Investigation No. 731-TA-706 (Review)]

Canned Pineapple Fruit From Thailand

Determination

On the basis of the record ¹ developed in the subject five-year review, the United States International Trade Commission determines,² pursuant to section 751(c) of the Tariff Act of 1930 (19 U.S.C. § 1675(c)) (the Act), that revocation of the antidumping duty order on canned pineapple fruit from Thailand would be likely to lead to continuation or recurrence of material injury to an industry in the United States within a reasonably foreseeable time.

¹ The record is defined in sec. 207.2(f) of the Commission's Rules of Practice and Procedure (19 CFR § 207.2(f)).

² Commissioner Jennifer A. Hillman is not participating in this five-year review.

Background

The Commission instituted this review on June 5, 2000 (65 FR 35666) and determined on September 1, 2000 that it would conduct a full review (65 FR 55047, September 12, 2000). Notice of the scheduling of the Commission's review and of a public hearing to be held in connection therewith was given by posting copies of the notice in the Office of the Secretary, U.S. International Trade Commission, Washington, DC, and by publishing the notice in the Federal Register on November 1, 2000 (65 FR 67401). The hearing was held in Washington, DC, on March 13, 2001, and all persons who requested the opportunity were permitted to appear in person or by counsel.

The Commission transmitted its determinations in these investigations to the Secretary of Commerce on May 8, 2001. The views of the Commission are contained in USITC Publication 3417 (May 2001, entitled Canned Pineapple Fruit from Thailand: Investigation No. 731-TA-706 (Review).

By order of the Commission.
Issued: May 9, 2001.
Donna R. Koehnke,
Secretary.

[FR Doc. 01-12479 Filed 5-16-01; 8:45 am]

BILLING CODE 7020-02-P